DEPARTMENT OF THE INTERIOR

Bureau of Land Management

[L10300000 EG0000 LLWO270000]

Extension of Approved Information Collection, OMB Control Number 1004-0001

AGENCY: Bureau of Land Management, Interior.

ACTION: 60-Day notice and request for comments.

SUMMARY: In compliance with the Paperwork Reduction Act of 1995, the Bureau of Land Management (BLM) announces its intention to request that the Office of Management and Budget (OMB) extend approval for the paperwork requirements in 43 CFR parts 3620 and 5510, which pertain to free use of, respectively, petrified wood, timber, et al. The Office of Management and Budget (OMB) previously approved this information collection activity under the control number 1004-0001.

DATES: You must submit your comments to the BLM at the address below on or before March 15, 2010. The BLM is not obligated to consider any comments postmarked or received after the above date.

ADDRESSES: You may mail comments to: U.S. Department of the Interior, Bureau of Land Management, Mail Stop 401-LS, 1849 C St., NW., Washington, DC 20240, Attention: 1004-0001. You may also comment by e-mail at: Jean_Sonneman@blm.gov.

Comments will be available for public review at the L Street address during regular business hours (7:45 a.m. to 4:15 p.m.), Monday through Friday, excluding Federal holidays.

FOR FURTHER INFORMATION CONTACT: You may contact James Bowmer, Forester—Stewardship Coordinator, Bureau of Land Management, Division of Forests and Woodlands, (202) 912-7247 (Commercial or FTS). Persons who use a telecommunication device for the deaf (TDD) may call the Federal Information Relay Service (FIRS) on 1-800-877-8339, 24 hours a day, seven days a week, to contact Mr. Bowmer. You may also contact Mr. Bowmer to obtain a copy, at no cost, of the regulations and forms that require this collection of information.

SUPPLEMENTARY INFORMATION: OMB regulations at 5 CFR 1320, which implement provisions of the Paperwork Reduction Act (44 U.S.C. 3501-3521), require that interested members of the public and affected agencies be provided an opportunity to comment on information collection and recordkeeping activities (see 5 CFR 1320.8(d) and 1320.12(a)). This notice identifies information collections that are contained in 43 CFR parts 3830 through 3838 and part 5511. The BLM will request that the OMB approve this information collection activity for a 3-year term.

Comments are invited on: (1) The need for the collection of information for the performance of the functions of the agency; (2) the accuracy of the agency's burden estimates; (3) ways to enhance the quality, utility, and clarity of the information collection; and (4) ways to minimize the information collection burden on respondents, such as use of automated means of collection of the information. A summary of the public comments will accompany the BLM's submission of the information collection requests to OMB.

The following information is provided for the information collection:

Title: Form 5510-1, Free Use Application and Permit (43 CFR Part 3620 and 5510).

Forms:

• Form 5510, Free Use Application and Permit.

OMB Control Number: 1004-0001.

Abstract: This notice pertains to information collections that are necessary in order to manage the collection of limited quantities of petrified wood and timber for noncommercial purposes. The information collections covered by this notice are found at 43 CFR parts 3620 and 5510, and in the form listed above.

Frequency: On occasion.

Estimated Number and Description of Respondents: 476.

Estimated Reporting and Recordkeeping “Hour” Burden: The currently approved annual reporting burden for this collection is 952 hours.

Estimated Reporting and Recordkeeping “Non-Hour Cost” Burden: There is no currently approved non-hour cost burden for Control Number 1004-0001.

The Paperwork Reduction Act (44 U.S.C. 3501, et seq.) provides that an agency may not conduct or sponsor a collection of information unless it displays a currently valid OMB control number. Until OMB approves a collection of information, you are not obligated to respond.

The BLM will summarize all responses to this notice and include them in the request for OMB approval. All comments will become a matter of public record. Before including your address, phone number, e-mail address, or other personal identifying information in your comment, you should be aware that your entire comment—including your personal identifying information—may be made publicly available at any time. While you can ask us in your comment to withhold your personal identifying information from public review, we cannot guarantee that we will be able to do so.

Jean Sonneman,
Acting Information Collection Clearance Officer, Bureau of Land Management.

[FR Doc. 2010-399 Filed 1-11-10; 8:45 am]

BILLING CODE 4310-84-P